DEPARTMENT OF ENERGY

Federal Energy Regulatory Commission

Combined Notice of Filings #1

Take notice that the Commission received the following electric rate filings:

Docket Numbers: ER19-481-000.

Applicants: LMBE Project Company LLC.

Description: Supplement to December 4, 2018 LMBE Project Company LLC tariff filing.

Filed Date: 12/20/18.

Accession Number: 20181220-5299.

Comments Due: 5 p.m. ET 1/10/19.

Docket Numbers: ER19-631-000.

Applicants: Community Wind North 13 LLC.

Description: § 205(d) Rate Filing: Category 1 Seller Status Notification & Revised MBR Tariff to be effective 12/21/2018.

Filed Date: 12/20/18.

Accession Number: 20181220-5214.

Comments Due: 5 p.m. ET 1/10/19.

Docket Numbers: ER19-632-000.

Applicants: Community Wind North 15 LLC.

Description: § 205(d) Rate Filing: Category 1 Seller Status Notification & Revised MBR Tariff to be effective 12/21/2018.

Filed Date: 12/20/18.

Accession Number: 20181220-5217.

Comments Due: 5 p.m. ET 1/10/19.

Docket Numbers: ER19-633-000.

Applicants: NorthWestern Corporation.

Description: § 205(d) Rate Filing: RS 41-SD-ESA with East River Electric Power Cooperative and the City of Miller to be effective 12/27/2018.

Filed Date: 12/20/18.

Accession Number: 20181220-5246.

Comments Due: 5 p.m. ET 1/10/19.

Docket Numbers: ER19-634-000.

Applicants: Jeffers Wind 20, LLC.

Description: § 205(d) Rate Filing: Category 1 Seller Status Notification & Revised MBR Tariff to be effective 12/21/2018.

Filed Date: 12/20/18.

Accession Number: 20181220-5249.

Comments Due: 5 p.m. ET 1/10/19.

Docket Numbers: ER19-635-000.

Applicants: Midcontinent Independent System Operator, Inc., Ameren Illinois Company.

Description: § 205(d) Rate Filing: 2018-12-20_SA 3224 Ameren Illinois-Bishop Hill MPFCA FSA to be effective 4/1/2017.

Filed Date: 12/20/18.

Accession Number: 20181220-5259.

Comments Due: 5 p.m. ET 1/10/19.

Docket Numbers: ER19-636-000.

Applicants: North Community Turbines LLC.

Description: § 205(d) Rate Filing: Category 1 Seller Status Notification & Revised MBR Tariff to be effective 12/21/2018.

Filed Date: 12/20/18.

Accession Number: 20181220-5260.

Comments Due: 5 p.m. ET 1/10/19.

Docket Numbers: ER19-637-000.

Applicants: Midcontinent Independent System Operator, Inc.

Description: § 205(d) Rate Filing: 2018-12-20_Attachment X GIP and GIA revisions related to Site Control/Milestones to be effective 3/20/2019.

Filed Date: 12/20/18.

Accession Number: 20181220-5262.

Comments Due: 5 p.m. ET 1/10/19.

Docket Numbers: ER19-638-000.

Applicants: North Wind Turbines LLC.

Description: § 205(d) Rate Filing: Category 1 Seller Notification & Revised MBR Tariff to be effective 12/21/2018.

Filed Date: 12/20/18.

Accession Number: 20181220-5264.

Comments Due: 5 p.m. ET 1/10/19.

Docket Numbers: ER19-639-000.

Applicants: Green Mountain Energy Company.

Description: § 205(d) Rate Filing: Market-Based Rate Tariff Revisions to be effective 12/21/2018.

Filed Date: 12/20/18.

Accession Number: 20181220-5274.

Comments Due: 5 p.m. ET 1/10/19.

Docket Numbers: ER19-640-000.

Applicants: XOOM Energy, LLC.

Description: § 205(d) Rate Filing: Market-Based Rate Tariff Revisions to be effective 12/21/2018.

Filed Date: 12/20/18.

Accession Number: 20181220-5283.

Comments Due: 5 p.m. ET 1/10/19.

Docket Numbers: ER19-641-000.

Applicants: Independence Energy Group LLC.

Description: § 205(d) Rate Filing: Market-Based Rate Tariff Revisions to be effective 12/21/2018.

Filed Date: 12/20/18.

Accession Number: 20181220-5289.

Comments Due: 5 p.m. ET 1/10/19.

Docket Numbers: ER19-642-000.

Applicants: Long Beach Peakers LLC.

Description: § 205(d) Rate Filing: Market-Based Rate Tariff Revisions to be effective 12/21/2018.

Filed Date: 12/20/18.

Accession Number: 20181220-5290.

Comments Due: 5 p.m. ET 1/10/19.

Docket Numbers: ER19-643-000.

Applicants: Reliant Energy Northeast LLC.

Description: § 205(d) Rate Filing: Market-Based Rate Tariff Revisions to be effective 12/21/2018.

Filed Date: 12/20/18.

Accession Number: 20181220-5291.

Comments Due: 5 p.m. ET 1/10/19.

Docket Numbers: ER19-644-000.

Applicants: Energy Plus Holdings LLC.

Description: § 205(d) Rate Filing: Market-Based Rate Tariff Revisions to be effective 12/21/2018.

Filed Date: 12/20/18.

Accession Number: 20181220-5292.

Comments Due: 5 p.m. ET 1/10/19.

Docket Numbers: ER19-645-000.

Applicants: AltaGas Renewable Energy Colorado LLC.

Description: § 205(d) Rate Filing: Revised Tariff, Notice of Category 2 Seller NW and Status Change, ER12-1875 to be effective 12/21/2018.

Filed Date: 12/20/18.

Accession Number: 20181220-5293.

Comments Due: 5 p.m. ET 1/10/19.

Docket Numbers: ER19-646-000.

Applicants: NRG Power Marketing LLC.

Description: § 205(d) Rate Filing: Market-Based Rate Tariff Revisions to be effective 12/21/2018.

Filed Date: 12/20/18.

Accession Number: 20181220-5294.

Comments Due: 5 p.m. ET 1/10/19.

Docket Numbers: ER19-647-000.

Applicants: Wolf Run Energy LLC.

Description: Baseline eTariff Filing: Wolf Run Energy, LLC Reactive Supply Service Filing to be effective 3/1/2019.

Filed Date: 12/20/18.

Accession Number: 20181220-5297.

Comments Due: 5 p.m. ET 1/10/19.

Docket Numbers: ER19-648-000.

Applicants: Portland General Electric Company.

Description: § 205(d) Rate Filing: PGE-13 Tariff Filing to be effective 12/20/2018.

Filed Date: 12/21/18.

Accession Number: 20181221-5000.

Comments Due: 5 p.m. ET 1/11/19.

Docket Numbers: ER19-649-000.

Applicants: PacifiCorp.

Description: § 205(d) Rate Filing: UAMPS Construction Agmt Morgan Temp Tap to be effective 12/24/2018.

Filed Date: 12/21/18.

Accession Number: 20181221-5003.

Comments Due: 5 p.m. ET 1/11/19.

Docket Numbers: ER19-650-000.

Applicants: Midcontinent Independent System Operator, Inc.

Description: § 205(d) Rate Filing: 2018-12-21-Resource Availability and Need LMR Availability Filing to be effective 2/20/2019.

Filed Date: 12/21/18.

Accession Number: 20181221-5009.

Comments Due: 5 p.m. ET 1/11/19.

Take notice that the Commission received the following public utility holding company filings:

Docket Numbers: PH19-3-000.

Applicants: Macquarie Sierra Investment Holdings, Inc., Electrodes Holdings, LLC, Watt Battery Holdings, LLC, Battery Storage Holdings, LLC, Sparks Battery Holdings, LLC, Sparks Battery Holdings 2, LLC.

Description: Macquarie Sierra Investment Holdings, Inc., et al. submits FERC 65-B Revised Waiver Notification.

Filed Date: 12/20/18.

Accession Number: 20181220-5300.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 21, 2018.
Nathaniel J. Davis, Sr.,
Deputy Secretary.

[FR Doc. 2018-28412 Filed 12-28-18; 8:45 am]

BILLING CODE 6717-01-P